Proclamation 9657 of October 6, 2017

Leif Erikson Day, 2017

By the President of the United States of America

A Proclamation

More than a thousand years ago, explorer Leif Erikson—son of Iceland and grandson of Norway—sailed with his crew to Newfoundland, Nova Scotia, and perhaps even as far west as Maine. These intrepid explorers were likely the first Europeans to reach our great home, North America. On Leif Erikson Day, we celebrate their remarkable journey and the brave Viking culture that lies at the core of the New World's passion for discovery and determination to tackle unimaginable challenges.

Throughout our country's history, Nordic Americans have made notable contributions to our society. From the everyday to the extraordinary, Nordic accomplishments have touched every aspect of our lives. We owe our hamburgers to Danish-American Louis Lassen, and the famed St. Louis Arch to Finnish-American Eero Saarinen. Norwegian-American and cartoonist Charles M. Schulz brought us the Charlie Brown, Snoopy, and the rest of the iconic Peanuts comic strip, and Finnish-American John Morton signed the Declaration of Independence.

Today, we take pride in our strong relationship with the Nordic countries. In 2016, we exported $11 billion in goods to the Nordics, and our trading partnerships in the region are only growing stronger. The Nordics are also staunch allies in the war on terrorism and are valued members of the Global Coalition to Defeat the Islamic State of Iraq and Syria. We share in their sorrow from suffering caused by terrorists in places like Turku, Stockholm, and Oslo. We stand together with the Nordic people in solidarity against the threat of terrorism. As we strive for peace, prosperity, and security, we will work to ensure that our relationship with the Nordic countries continues to reflect the indomitable spirit of Leif Erikson.

To honor Leif Erikson and celebrate our Nordic-American heritage, the Congress, by joint resolution (Public Law 88-566) approved on September 2, 1964, has authorized the President of the United States to proclaim October 9 of each year as “Leif Erikson Day.”

NOW, THEREFORE, I, DONALD J. TRUMP, President of the United States of America, by virtue of the authority vested in me by the Constitution and the laws of the United States, do hereby proclaim October 9, 2017, as Leif Erikson Day. I call upon all Americans to celebrate the achievements and contributions of Nordic Americans to our Nation with appropriate ceremonies, activities, and programs.

IN WITNESS WHEREOF, I have hereunto set my hand this sixth day of October, in the year of our Lord two thousand seventeen, and of the Independence of the United States of America the two hundred and forty-second.

[FR Doc. 2017-22424

Filed 10-12-17; 11:15 am]

Billing code 3295-F8-P